DEPARTMENT OF TRANSPORTATION

Surface Transportation Board

[STB Finance Docket No. 33999]

Somerset Terminal Railroad Corporation—Operation Exemption—A Line of Railroad Owned by Joseph C. Horner

Somerset Terminal Railroad Corporation (STRC), a noncarrier, has filed a notice of exemption under 49 CFR 1150.31 to operate under a perpetual, irrevocable, exclusive and assignable easement over approximately 1.25 miles of rail line owned by Joseph C. Horner. The rail line is located in the Township of Bridgewater and the Borough of Manville, Somerset County, NJ, and is part of a rail line known as the Reading Company New York Branch (also known as the Raritan Valley Connecting Track), and identified as Line Code 0326, between milepost 57.25 at Manville Yard and milepost 58.50 at a junction with New Jersey Transit's commuter line. STRC also acquired title to a railroad bridge spanning the Raritan River and connecting the properties on which its easement lies.¹

¹ According to STRC, the line was conveyed to Mr. Horner by deed from Consolidated Rail Corporation on August 24, 1995, and was comprised of two pieces or parcels of land together with track, track materials, two switches, and the railroad bridge.

STRC proposes to operate the line to connect with CSX Transportation, Inc. (CSXT) and Norfolk Southern Railway Company at points of intersection on the rail line. Pursuant to an agreement with Mr. Horner, STRC will replace Bridgewater Resources, Inc. (BRI), the Somerset County waste transfer station. BRI previously arranged for an independent contractor to transport the waste processed by BRI over the line for connection with CSXT. Mr. Horner will permit STRC to transport its refuse across its property and will permit STRC to move freight from other shippers bordering on the property upon which the easement exists.

The transaction was due to be consummated on or after January 29, 2001.²

² STRC reported that the transaction was consummated during the year 2000. STRC's representative has been notified by Board staff that the earliest the transaction could be consummated was January 29, 2001, the effective date of the exemption (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 33999, must be filed with the Surface Transportation Board, Office of the Secretary, Case Control Unit, 1925 K Street, NW., Washington, DC 20423-0001. In addition, one copy of each pleading must be served on Edward M. Fink, Esq., 51 Jamaica Street, Edison, NJ 08820.

Board decisions and notices are available on our website at www.Stb.Dot.Gov.

Decided: February 6, 2001.
By the Board, David M. Konschnik, Director, Office of Proceedings.
Vernon A. Williams,
Secretary.

[FR Doc. 01-3526 Filed 2-12-01; 8:45 am]

BILLING CODE 4915-00-P